DEPARTMENT OF AGRICULTURE

Submission for OMB Review; Comment Request

December 19, 2019.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by January 27, 2020 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

30-Day Federal Register Notice

Rural Utility Service

Title: Rural Energy Savings Program.

OMB Control Number: 0572-0151.

Summary of Collection: The Rural Utilities Service (RUS), a Rural Development agency of the U.S. Department of Agriculture, provides Rural Energy Saving Program (RESP) loans to eligible entities that agree to, in turn, make loans to qualified consumers for energy efficiency measures, including cost effective energy and renewable energy systems. Since its inception in 2016, the RESP has evolved. New and clarifying authorities have been added to the program including changes made by the Agriculture Improvement Act of 2018 (Pub L. 115-334) which reauthorized the implementation of the RESP. Title VI, subtitle C, Section 6303 of the Agriculture Improvement Act of 2018 introduced several amendments to Section 6407 of the Farm Security and Rural Investment Act of 2002 (7 U.S.C. 8107a).

Need and Use of the Information: The application process consists of two steps. Step 1: An applicant seeking financing must submit a Letter of Intent to apply in an electronic Portable Document Format (pdf). The Letter of Intent contains the tax identification number, legal name and organization status; verification of rural status (counties to be served and populations); financial status; point of contact; description of program; implementation plan; and a list of eligible energy efficiency measures to be implements. Step 2: RESP application—after review of the letter of intent, RUS notifies the eligible entity if it is invited to submit the loan application. Required application information is used to determine a borrower's ability to meet financial obligations, includes analyses and document review of the applicant's historical, current, and projected costs, revenues, cash flows, assets, and other factors that may be relevant on a case by case basis. The collection of information is essential to the mission of the agency and the RESP, and is necessary so that RUS can establish applicant and project eligibility.

Description of Respondents: Businesses or other for-profit; Not-for-profit institutions.

Number of Respondents: 17.

Frequency of Responses: Reporting: On occasion.

Total Burden Hours: 1,046.

Ruth Brown,
Departmental Information Collection Clearance Officer.

[FR Doc. 2019-27775 Filed 12-23-19; 8:45 am]

BILLING CODE 3410-15-P